OFFICE OF PERSONNEL MANAGEMENT

Civil Service Retirement System Board of Actuaries Meeting

AGENCY: Office of Personnel Management.

ACTION: Notice of meeting.

SUMMARY: The Civil Service Retirement System Board of Actuaries plans to meet on Thursday, September 7, 2017. The meeting will start at 1:00 p.m. EDT and will be held at the U.S. Office of Personnel Management (OPM), 1900 E Street NW., Room 4332, Washington, DC 20415.

FOR FURTHER INFORMATION CONTACT: Gregory Kissel, Senior Actuary for Retirement Programs, U.S. Office of Personnel Management, 1900 E Street NW., Room 4316, Washington, DC 20415. Phone (202) 606-0722 or email at actuary@opm.gov.

SUPPLEMENTARY INFORMATION: The purpose of the meeting is for the Board to review the actuarial methods and assumptions used in the valuations of the Civil Service Retirement and Disability Fund (CSRDF), in the event of a change in applicable law or regulations governing the selection of actuarial assumptions.

The agenda is as follows:

1. Summary of changes established after June 1, 2017, in legislation or regulations

2. Review of actuarial assumptions if warranted by such changes:

a. Demographic Assumptions

b. Economic Assumptions

Persons desiring to attend this meeting of the Civil Service Retirement System Board of Actuaries, or to make a statement for consideration at the meeting, should contact OPM at least 5 business days in advance of the meeting date at the address shown below. The manner and time for any material presented to the Board may be limited.

For the Board of Actuaries.
Kathleen M. McGettigan,
Acting Director.

[FR Doc. 2017-16972 Filed 8-10-17; 8:45 am]

BILLING CODE 6325-63-P